DEPARTMENT OF HEALTH AND HUMAN SERVICES

National Institutes of Health

Center for Scientific Review; Amended Notice of Meeting

Notice is hereby given of a change in the meeting of the Center for Scientific Review Special Emphasis Panel, June 29, 2009, 2 p.m. to June 29, 2009, 5 p.m., National Institutes of Health, 6701 Rockledge Drive, Bethesda, MD, 20892 which was published in the Federal Register on June 11, 2009, 74 FR 27806-27808.

The meeting time on June 29, 2009 has been changed to 11 a.m. to 12:30 p.m. The meeting date and location remain the same. The meeting is closed to the public.

Jennifer Spaeth,
Director, Office of Federal Advisory Committee Policy.

[FR Doc. E9-14694 Filed 6-22-09; 8:45 am]

BILLING CODE 4140-01-P